NATIONAL SCIENCE FOUNDATION

Notice of Permit Applications Received Under the Antarctic Conservation Act of 1978

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 25, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

APPLICATION DETAILS:

1. Applicant: Permit Application: 2016-021, Charles D. Amsler, Jr., Department of Biology, University of Alabama at Birmingham, Birmingham, AL 35294-1170.

Activity for Which Permit is Requested: Sample collection and Import into the USA. The applicant plans to collect from the Palmer Station area approximately 20 brown marine algae, 20 green marine algae, 10 red marine algae, and 10 diatom marine algae. The applicant also plans to collect approximately 200 marine gastropods—50 each of four species: Margarella antarctica, Pellilitorina pellita, Laevilacunaria antarctica, and Skenella umbilicata. The applicant has filamentous Antarctic macroalgae and diatoms, previously isolated, in culture, but requires additional strains, particularly of filamentous green algal endophytes, for further study. The applicant seeks to understand the interactions of epiphytic and endophytic algae with larger macroalgae and with mesoherbivores such as amphipods and gastropods. The cultures will be maintained at the home university.

Location: Palmer Station, Anvers Island, Antarctic Peninsula.

Dates: March 1, 2016 to July 31, 2019.

Nadene G. Kennedy,
Polar Coordination Specialist, Division of Polar Programs.

[FR Doc. 2015-32438 Filed 12-23-15; 8:45 am]

BILLING CODE 7555-01-P